DEPARTMENT OF ENERGY

Federal Energy Regulatory Commission

[Project No. 10822-013]

Town of Canton, Connecticut; Notice of Application for License Reinstatement, Amendment, Transfer, Extension of License Term, and Soliciting Comments, Motions To Intervene, Protests, Recommendations, Terms and Conditions, and Fishway Prescriptions

Take notice that the following hydroelectric application has been filed with the Commission and is available for public inspection.

a. Type of Application: Reinstatement, Amendment, and Transfer.

b. Project No.: 10822-013.

c. Date filed: October 12, 2017.

d. Applicant: Town of Canton, Connecticut.

e. Name of Project: Upper Collinsville Project.

f. Location: On the Farmington River near the village of Collinsville in Hartford County, Connecticut.

g. Filed Pursuant to: Federal Power Act 16 U.S.C. 791(a)-825(r) and Public Law 113-122.

h. Applicant Contact: Robert Skinner, Chief Administrative Officer, Town of Canton, Connecticut, P.O. Box 168, 4 Market Street, Collinsville, CT, (860) 693-7837 or rskinner@townofcantonct.org.

i. FERC Contact: Diana Shannon, (202) 502-6136 or diana.shannon@ferc.gov.

j. Deadline for filing motions to intervene and protests, comments, recommendations, terms and conditions, and fishway prescriptions is 60 days from the issuance date of this notice by the Commission; reply comments are due 105 days from the issuance date of this notice by the Commission. The Commission strongly encourages electronic filing.

Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-10822-013.

k. Description of Request: On October 12, 2017, the Town of Canton, Connecticut, filed a request to reinstate, amend, and transfer the license for the Upper Collinsville Project No. 10822. The project was previously licensed to Summit Hydropower, but the license was terminated by Commission order dated December 4, 2007, for failure to start construction pursuant to Article 301 of the license and section 13 of the Federal Power Act. By Public Law 113-122, dated June 30, 2014, Congress approved the Collinsville Renewable Energy Production Act, which at the request of the Town of Canton, and after reasonable notice, allows the Commission to: (1) Reinstate the license; (2) extend for two years after the date on which the license is reinstated the time period during which the licensee is required to commence construction of the project; and (3) allows the license to be transferred to the town of Canton. The Town of Canton proposes to rehabilitate the project, provide upstream and downstream fish and eel passage, and provide additional environmental measures, including water quality monitoring, mussel relocation, and recreation. The Town requests the Commission to reinstate the license with a new term of 40-50 years.

l. Locations of the Application: A copy of the application is available for inspection and reproduction at the Commission's Public Reference Room, located at 888 First Street NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the addresses in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervenor files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 28, 2017.
Kimberly D. Bose,
Secretary.

[FR Doc. 2017-26036 Filed 12-1-17; 8:45 am]

BILLING CODE 6717-01-P